DEPARTMENT OF AGRICULTURE

Natural Resources Conservation Service

[Docket ID NRCS-2024-0014]

Request for Public Input About Implementation of the Sustainability Targets in Agriculture to Incentivize Natural Solutions Act

AGENCY: Natural Resources Conservation Service, USDA.

ACTION: Request for information.

SUMMARY: The Natural Resources Conservation Service (NRCS) requests public input for USDA to use all available tools to support climate-smart agriculture and forestry and advance conservation priorities on working lands. The Sponsoring USDA Sustainability Targets in Agriculture to Incentivize Natural Solutions Act of 2021 (the SUSTAINS Act) was signed into law as part of the Consolidated Appropriations Act of 2023. The SUSTAINS Act expands USDA's authority to accept contributions of private funds to support existing conservation programs and provides additional guidelines for those contributions. Specifically, the SUSTAINS Act provides an opportunity for the private sector to partner with USDA in engaging farmers and ranchers in conservation initiatives, including expanding conservation practices to sequester carbon, improve wildlife habitat, protect sources of drinking water, and address other natural resource priorities.

DATES: We will consider comments that we receive by September 16, 2024. Comments received after that date will be considered to the extent possible.

ADDRESSES: We invite you to send comments in response to this notice. You may send comments through the method below:

• Federal eRulemaking Portal: Go to http://www.regulations.gov and search for Docket ID NRCS-2024-0014. Follow the online instructions for submitting comments.

All comments received, including those received by mail, will be posted without change and will be publicly available on http://www.regulations.gov.

FOR FURTHER INFORMATION CONTACT: Lisa Bertelson, telephone: (253) 778-2409; email: Lisa.Bertleson@usda.gov.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Background

In Title I of Division HH of the Consolidated Appropriations Act, 2023 (Pub. L. 117-328), section 202, (the SUSTAINS Act amended section 1241(f) of the Food Security Act of 1985 (16 U.S.C. 3841(f))). The SUSTAINS Act authorized NRCS to accept contributions of non-Federal funds (contribution account authority) to support a range of covered existing conservation programs, as detailed below.

The original authority for the contribution account was enacted as part of the Food, Conservation, and Energy Act of 2008, and included all programs authorized under subtitle D of title XII of the Food Security Act of 1985 except the Conservation Reserve Program. Due to changes under the Agricultural Act of 2014, the authority of the contribution account became limited to supporting only the Environmental Quality Incentives Program and the Conservation Stewardship Program. The SUSTAINS Act expanded the authority to include other conservation programs, including:

• the Agricultural Conservation Easement Program;

• the Regional Conservation Partnership Program;

• the Emergency Watersheds Protection Program;

• the Healthy Forests Reserve Program; and

• the Watersheds Protection and Flood Prevention Act programs (excluding the Watershed Rehabilitation Program).

Both new and existing covered programs assist agricultural producers, landowners, and others with addressing natural resource concerns. The SUSTAINS Act also made changes to the administration of contributed funds, which allows NRCS the option to match contributions with program funds and permits contributors to designate funds for use in a specific program or geographic area. In addition, the SUSTAINS Act includes provisions that allow contributing entities to prescribe the terms for owning the entity's share of environmental service benefits that result from funded activities, subject to the approval of the Secretary. In implementing the SUSTAINS Act, NRCS is interested in improving program delivery by effectively dedicating the additional funds to increase outreach and expand access to underserved producers.

NRCS is requesting comments and recommendations from the public to determine how to best allocate private funds to target specific natural resource concerns associated with agricultural production. NRCS will consider the comments provided in response to this request when determining the next steps for implementing the SUSTAINS Act, which could include a proposed rule.

List of Questions for Commenters

The following list of questions is not exhaustive and serves only to assist members of the public in formulating comments on some of the most important issues that NRCS is considering. Members may provide feedback about the SUSTAINS Act that is outside the parameters of the provided questions. The questions are not intended to restrict or limit feedback that members of the public may provide.

Program Prioritization and Initial Implementation

1. Should USDA actively solicit the contribution of funds, and if so, how?

2. The SUSTAINS Act identifies several objectives that can be addressed through this provision (such as changing climate, sequestering carbon, improving wildlife habitat, protecting sources of drinking water, and addressing other natural resource priorities identified by the Secretary). Should USDA initially prioritize requesting contributions for specific natural resource priorities? If so, which natural resource priorities?

3. Should USDA initially launch a pilot program to use contributed funds? If so, what might that pilot program look like?

4. Are there certain covered programs that USDA should dedicate contributions or pilot the program first?

Program Administration

1. The SUSTAINS Act provides criteria that the Secretary should consider when determining whether to accept private funds, such as the source of funds; any natural resource concerns to be addressed; consistency with the Secretary's priorities; and “other factors determined by the Secretary to be relevant” (16 U.S.C. 3841(f)(3)). What other criteria or issues should the Secretary consider in determining whether to accept a contribution of private funds?

2. What processes should USDA establish to document contributions?

3. How should USDA ensure that there is no conflict of interest or appearance of impropriety associated with accepting funds from certain sources?

Environmental Benefit Accounting

1. How should the environmental service benefits generated through the SUSTAINS Act be defined? Specifically, what type of parameters would need to be in place?

2. Should the environmental service benefits be consistently quantified, and if so, by which methods or protocols?

3. Would you be interested in supporting NRCS conservation programs as a contributing entity through the SUSTAINS Act? If yes, would you also want to acquire environmental credits through the projects you support? If so, what type of credits (for example, carbon credits, water quality credits, etc.)?

Interest and Participation

1. What steps should USDA take to address any potential barriers to producer participation? What steps should USDA take to address challenges that a private entity may face when considering contributing funds?

2. What steps should USDA take to make this program attractive to both producers and potential contributing entities?

3. What type of protections should USDA adopt to ensure that producers receiving contributed funds are treated equitably to other conservation program applicants and participants that do not receive contributed funds?

4. What mechanisms should USDA adopt to ensure that producers who receive contributed funds are sufficiently aware of the conditions for those funds?

5. How should potential contributing entities best use this program to meet their goals? What might potential outcomes be?

6. When evaluating options for implementing the SUSTAINS Act, how should USDA ensure the program is equitable and beneficial to farmers, ranchers, and rural communities, while still advancing maximum conservation benefits?

Maximizing the Value of Public Feedback

NRCS plans to use the answers provided by the public to inform its approach to delivering the funds contributed under and covered by the SUSTAINS Act. NRCS encourages public comment on these questions and requests any additional information that commenters believe is relevant. NRCS is particularly interested in feedback that identifies specific data, policies, procedures, or processes and includes actionable information, data, or viable alternatives that would assist in implementing programmatic goals and requirements. You may contact us by sending an email to: NRCS.SUSTAINS.Input@usda.gov if you have questions or concerns. Please specify the Docket ID: NRCS-2024-0014 in the subject line.

Review of Public Feedback

NRCS will use the input from the public comments to improve our program delivery for any funds made available.

This document is issued solely for informational and program-planning purposes. Public comments provided in response to this document will not bind NRCS to any further actions, including publication of any formal response or agreement to initiate a recommended change. NRCS will consider the feedback in the public comments and make changes or consider improvements at our sole discretion.

Finally, comments submitted in response to this document will not be considered as petitions for rulemaking as specified in the Administrative Procedure Act (5 U.S.C. 553(e)).

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible agency or USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD- 3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202) 690-7442; or (3) email: program.intake@usda.gov.

USDA is an equal opportunity provider, employer, and lender.

Terry Cosby,
Chief, Natural Resources Conservation Service.

[FR Doc. 2024-18348 Filed 8-15-24; 8:45 am]

BILLING CODE 3410-16-P